DEPARTMENT OF HOMELAND SECURITY

Federal Emergency Management Agency

44 CFR Part 67

[Docket No. FEMA-B-7721]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground.: Effective | * Elevation in feet (NGVD) + Elevation in feet (NAVD) # Depth in feet above ground.: Modified | Communities affected
Warren County, Mississippi, and Incorporated Areas
Clear Creek | At Tiffintown Road | None | +144 | (Warren County Unincorporated Areas).
| Approximately 6490 feet upstream of Tiffintown Road | None | +150
Tributary 1 | At Tiffintown Road | None | +144 | (Warren County Unincorporated Areas).
| Approximately 1825 feet upstream of Tiffintown Road | None | +145
Crouches Creek | Approximately 840 feet downstream of confluence with Crouches Creek Tributary 2 | None | +155 | (Warren County Unincorporated Areas).
| Approximately 2730 feet upstream of confluence with Crouches Creek Tributary 2 | None | +164
Tributary 2 | At confluence with Crouches Creek | None | +159 | (Warren County Unincorporated Areas).
| At Freetown Road | None | +165
Tributary 3 | At confluence with Crouches Creek | None | +159 | (Warren County Unincorporated Areas).
| Approximately 2970 feet upstream of confluence with Crouches Creek | None | +166
Glass Bayou | At Fort Hill Drive | None | +123 | City of Vicksburg.
| At Evergreen Drive | None | +208
Muddy Creek | At Tucker Road | None | +148 | (Warren County Unincorporated Areas).
| Approximately 4565 feet upstream of Tucker Road | None | +150
Tributary 1 | At confluence with Muddy Creek | None | +148 | (Warren County Unincorporated Areas).
| Approximately 2970 feet upstream of confluence with Muddy Creek | None | +176
Paces Bayou | At U.S. Highway 61 | None | +96 | City of Vicksburg.
| Approximately 3530 feet upstream of U.S. Highway 61 | None | +108 | (Warren County Unincorporated Areas).
Tributary 1 | At Redbone Road | None | +121 | City of Vicksburg.
| Approximately 1390 feet upstream of Redbone Road | None | +123
Tributary 3 | At Redbone Road | None | +115 | City of Vicksburg.
| Approximately 2040 feet upstream of Redbone Road | None | +118 | (Warren County Unincorporated Areas).
Silver Creek | Approximately 1500 feet downstream of confluence with Silver Creek Tributary 2 | None | +162 | (Warren County Unincorporated Areas).
| Approximately 8615 feet upstream of confluence with Silver Creek Tributary 3 | None | +259
Tributary 2 | Approximately 745 feet upstream of confluence with Silver Creek | None | +181 | (Warren County Unincorporated Areas).
| Approximately 4890 feet upstream of confluence with Silver Creek | None | +217
Tributary 3 | Approximately 1070 feet upstream of confluence with Silver Creek | None | +191 | (Warren County Unincorporated Areas).
| Approximately 4975 feet upstream of confluence with Silver Creek | None | +228
Stouts Bayou | At Interstate 20 | None | +122 | City of Vicksburg.
| At Spring Street | None | +197
* National Geodetic Vertical Datum.
+ North American Vertical Datum.
# Depth in feet above ground.
ADDRESSES
City of Vicksburg
Maps are available for inspection at 1401 Walnut Street, Vicksburg, MS 39180.
Send comments to The Honorable Laurence E. Leyens, Mayor, City of Vicksburg, 1401 Walnut Street, Vicksburg, MS 39180.
Warren County (Unincorporated Areas)
Maps are available for inspection at 913 Jackson Street, Vicksburg, MS 39183.
Send comments to Mr. Carl Flanders, Chairman, Warren County Board of Supervisors, 913 Jackson Street, Vicksburg, MS 39183.
Grand County, Utah, and Incorporated Areas
Pack Creek | At the confluence with Mill Creek | *4022 | +4030 | Grand County (Unincorporated Areas)
| 160 feet upstream of Mill Creek Drive | None | +4199 | City of Moab
* National Geodetic Vertical Datum.
+ North American Vertical Datum.
# Depth in feet above ground.
ADDRESSES
City of Moab
Maps are available for inspection at 217 East Center Street, Moab, UT 84532.
Send comments to The Honorable Dave Sakirson, Moab City Mayor, 217 East Center Street, Moab, UT 84532.
Grand County (Unincorporated Areas)
Maps are available for inspection at Grand County Courthouse, Moab, UT 84532.
Send comments to Joette Langianese, Chair, Grand County Council, 125 East Center Street, Moab, UT 84532.

(Catalog of Federal Domestic Assistance No. 97.022, “Flood Insurance.”)

Dated: June 18, 2007.
David I. Maurstad,
Federal Insurance Administrator of the National Flood Insurance Program, Department of Homeland Security, Federal Emergency Management Agency.

[FR Doc. E7-12697 Filed 6-29-07; 8:45 am]

BILLING CODE 9110-12-P